FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011463-005.

Title: East Coast North America to West Coast South America and Caribbean Cooperative Working Arrangement.

Parties: APL Co. PTE Ltd. Compania Chilena De Navegacion Interoceanica, S.A. Hamburg-Sud, d/b/a Crowley American Transport.

Synopsis: The proposed modification provides that the agreement will remain in effect until at least March 31, 2002.

Agreement No.: 011715-002.

Title: IMC/ATL Space Charter and Sailing Agreement.

Parties: Associated Transport Line, LLC, Colombia Express, LLC, Industrial Maritime Carriers (U.S.A.), Inc.

Synopsis: The proposed modification substitutes Associated Transport Line for Colombia Express as a party to the agreement and changes the name of the agreement accordingly.

Dated: July 6, 2001.
By Order of the Federal Maritime Commission.
Bryant L. VanBrakle,
Secretary.

[FR Doc. 01-17420 Filed 7-11-01; 8:45 am]

BILLING CODE 6730-01-P